DEPARTMENT OF AGRICULTURE

Animal and Plant Health Inspection Service

[Docket No. APHIS-2019-0068]

Notice of Availability of an Environmental Assessment for Release of Lilioceris egena for Biological Control of Air Potato

AGENCY: Animal and Plant Health Inspection Service, USDA.

ACTION: Notice of availability.

SUMMARY: We are advising the public that the Animal and Plant Health Inspection Service has prepared an environmental assessment (EA) relative to permitting the release of an insect, Lilioceris egena, for the biological control of air potato (Dioscorea bulbifera). Based on the environmental assessment and other relevant data, we have reached a preliminary determination that the release of this control agent within the continental United States will not have a significant impact on the quality of the human environment. We are making the EA available to the public for review and comment.

DATES: We will consider all comments that we receive on or before February 8, 2021.

ADDRESSES: You may submit comments by either of the following methods:

• Federal eRulemaking Portal: Go to http://www.regulations.gov/#!docketDetail;D=APHIS-2019-0068.

• Postal Mail/Commercial Delivery: Send your comment to Docket No. APHIS-2019-0068, Regulatory Analysis and Development, PPD, APHIS, Station 3A-03.8, 4700 River Road, Unit 118, Riverdale, MD 20737-1238.

Supporting documents and any comments we receive on this docket may be viewed at http://www.regulations.gov/#!docketDetail;D=APHIS-2019-0068 or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1237; (301) 851-2327; colin.stewart@usda.gov.

SUPPLEMENTARY INFORMATION:

Background

The Animal and Plant Health Inspection Service (APHIS) is proposing to issue permits for the release of an insect, Lilioceris egena, into the continental United States for use as a biological control agent to reduce the severity of air potato (Dioscorea bulbifera) infestations.

Air potato is an herbaceous, twining vine that can grow 65 feet long or more, capable of climbing and out-competing native vegetation. Since its introduction to Florida in 1905, air potato has aggressively spread throughout the State; this species is reportedly naturalized in Georgia, Alabama, Mississippi, Louisiana, Texas, and Hawaii. In 1999, the Florida Department of Agricultural and Consumer Services added air potato to its list of noxious weeds in an attempt to protect the State's native plant species from being displaced or hybridized. Presently, the air potato is well established in Florida and probably throughout the Gulf States where it has the potential to severely disrupt entire ecosystems.

Existing air potato management options, which include chemical and mechanical control methods, are ineffective, expensive, temporary, or have non-target impacts. Thus, a permit application has been submitted to APHIS for the purpose of releasing an insect, L. egena, into the continental United States for use as a biological control agent to reduce the severity of air potato infestations.

APHIS' review and analysis of the proposed action are documented in detail in an environmental assessment (EA) titled “Field Release of the Beetle Lilioceris egena (Coleoptera: Chrysomelidae) for Classical Biological Control of Air Potato, Dioscorea bulbifera (Dioscoreaceae), in the Continental United States” (October 2019). We are making the EA available to the public for review and comment. We will consider all comments that we receive on or before the date listed under the heading DATES at the beginning of this notice.

The EA may be viewed on the Regulations.gov website or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS NEPA Implementing Procedures (7 CFR part 372).

Done in Washington, DC, this 4th day of January 2021.
Michael Watson,
Acting Administrator, Animal and Plant Health Inspection Service.

[FR Doc. 2021-00063 Filed 1-7-21; 8:45 am]

BILLING CODE 3410-34-P